DEPARTMENT OF COMMERCE

International Trade Administration

The Research Foundation of State University of New York: Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5 P.M. in Suite 4100W, U.S. Department of Commerce, Franklin Court Building, 1099 14th Street, NW., Washington, D.C.

Docket Number: 01-015. Applicant: The Research Foundation of State University of New York, Albany, NY 12201-0009. Instrument: XY Shifting Table and Accessories. Manufacturer: Luigs & Neumann, Germany. Intended Use: See notice at 66 FR 39490, July 31, 2001.

Comments: None received. Decision: Approved. No instrument of equivalent scientific value to the foreign instrument, for such purposes as it is intended to be used, is being manufactured in the United States. Reasons: The foreign instrument provides: (1) Direct approach of the micropipette to the cell, (2) adjustable advancement speed (from 0.04 to 6 mm/sec.), (3) a temperature controlled bath and (4) a stage customized for use with an Olympus microscope. A university research laboratory advised August 21, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-24085 Filed 9-25-01; 8:45 am]

BILLING CODE 3510-DS-P